DEPARTMENT OF THE INTERIOR

National Park Service

Draft Environmental Impact Statement; Reconstruction of the Furnace Creek Water Collection System; Death Valley National Park; Inyo County, CA; Notice of Availability

Summary: Pursuant to § 102(2)(C) of the National Environmental Policy Act (Pub. L. 91-190, 42U.S.C. 4321-4347, January 1, 1970, as amended), and the Council on Environmental Quality regulations (40CFR Part 1500-1508), the U.S. Department of the Interior, National Park Service and its cooperating agency have completed a draft Environmental Impact Statement (EIS) for the proposed reconstruction of the Furnace Creek water collection system at Death Valley National Park in Inyo County, California. The proposed project would rebuild the outdated water collection system in the Furnace Creek area to deliver a safe and reliable potable and nonpotable water supply to the park's main visitor use area. The draft EIS also describes and analyzes three alternatives and appropriate mitigation measures, and identifies an “environmentally preferred” alternative.

Background: The National Park Service (NPS), Xanterra Parks and Resorts (Xanterra), and the Timbisha Shoshone Tribe (cooperating agency) are the primary water user groups in the Furnace Creek area. The Texas-Travertine Springs complex in the Furnace Creek area may be the most critical water resource in Death Valley National Park. This series of springs provides water for all of the human use needs in the park headquarters area; infrastructure in this area includes the primary NPS administrative offices and three campgrounds, two private resort/visitor services facilities owned and operated by Xanterra, and the offices and residences for the Timbisha Shoshone Tribe. The Texas-Travertine Springs complex also provides water that supports a riparian area, a biological community that includes habitat for a minimum of eight endemic special-status species, and a biologically and culturally-important mesquite bosque.

The current water collection system consists of four water collection boxes at Travertine Springs, a collection gallery in Furnace Creek Wash, a tunnel for water collection constructed similar to a mine adit at Texas Springs, and a tunnel for water collection constructed similar to a mine adit at the Furnace Creek Inn. All water distributed by the existing collection system is potable, although much of the water is used for irrigation and other nonpotable purposes. The existing water collection system installed in the 1970's has become unreliable, subject to failure, and is nearing the end of its useful life-span. Many of the existing collection galleries have intermittently tested positive for coliform or E. coli bacteria, experienced unpredictable inputs of soil or organic matter, intermittently and unpredictably produced reduced volumes of water, and collected groundwater that does not meet state drinking water standards. When the system was installed approximately 30 years ago, there was an incomplete understanding of the Furnace Creek area's unique biological resource values and water conservation strategies were not a priority.

Proposal and Alternatives: The NPS proposes to rebuild the antiquated water collection system in the Furnace Creek area to deliver safe and reliable drinking water to the park's main visitor use area, and provide separate delivery systems for potable and nonpotable water. Desired redevelopment of the Furnace Creek water collection system includes efforts to restore historic wetland and riparian habitat, and ensure the long-term conservation of species endemic to the Furnace Creek area. The draft EIS identifies and analyzes four alternatives for reconstructing the Furnace Creek water collection system.

Alternative 1 (“no action”) would result in continued operation and maintenance of the existing water collection system. Under this alternative, the Furnace Creek water collection system would remain in its existing condition. Necessary maintenance and repairs would continue, but no major undertakings (e.g., maintenance activities) would occur. Alternative 1 would provide potable water from collection galleries at Travertine Springs Lines 2, 3, and 4, and Furnace Creek Wash. Nonpotable water would be provided from the Inn Tunnel. Riparian water would be released from Travertine Springs Line 1, Texas Springs, and the Inn Tunnel. Alternative 1 would continue to store water in the existing 2-million gallon and 500,000 gallon storage tanks. Potable water would continue to be disinfected at the 2-million gallon tank with chlorine.

All three “action” alternatives would separate the potable and nonpotable water system in the project area, and provide nonpotable water from the Inn Tunnel and a Furnace Creek Wash collection gallery. These alternatives primarily differ in terms of how each would provide potable water to the Furnace Creek area. Alternative 2 would provide potable water from rebuilt collection galleries at Travertine Springs Line 3 and Line 4, and two to three new groundwater wells in the Texas Springs Syncline. Alternative 2 would treat potable water using a reverse osmosis water treatment plant. Riparian water would be released from Travertine Springs Line 1 and Line 2 and Texas Springs to restore historic wetland and riparian habitat. The restoration effort would include the incorporation of riparian water release measures that would reduce erosion and promote groundwater infiltration.

Alternative 3 (agency preferred) would provide potable water from 4 to 6 new groundwater wells in the Texas Springs Syncline, and would treat potable water using a reverse osmosis water treatment plant. Riparian water would be released from all of Travertine Springs and Texas Springs to restore historic wetland and riparian habitat. The restoration effort would include the incorporation of riparian water release measures that would reduce erosion and promote groundwater infiltration.

Alternative 4 would provide potable water from Travertine Springs Lines 2, 3, and 4 and Texas Springs, and would treat water using a reverse osmosis water treatment plant with supplemental water disinfection. Since the NPS would treat all potable water under this alternative (including bypass water), Travertine Springs would not require reconstruction of spring collection boxes or clearing and grubbing of vegetation from the spring area. Riparian water would be released from Travertine Springs Line 1 and Texas Springs to restore historic wetland and riparian habitat. The restoration effort would include the incorporation of riparian water release measures that would reduce erosion and promote groundwater infiltration.

The draft EIS identifies and evaluates a full range of mitigation strategies, project design elements, and other measures to minimize environmental harm. In addition to identifying the agency-preferred alternative, based on the environmental impact analysis detailed in the draft EIS an “environmentally preferred” alternative is also evaluated.

Scoping: Early public and agency participation has been incorporated in this conservation planning process. Death Valley National Park held public scoping and informal meetings in 2001 through 2004 to solicit ideas and concerns from park visitors, park staff, Native American groups, scientists, and government agencies. A notice of intent to prepare the Reconstruction of the Furnace Creek Water Collection System Draft Environmental Impact Statement was published in the Federal Register on November 20, 2000; the formal public scoping phase concluded on March 14, 2001. The public was notified about the public scoping process through the Federal Register announcement, local press releases, website postings, mailings, and the Furnace Creek Visitor Center newsletter.

During 2001 the NPS held three public scoping meetings on January 30 (in Pahrump, Nevada), January 31 (in Death Valley National Park), and February 1 (in Independence, California). The purpose of these meetings was to: (1) Provide participants with an overview of existing conditions and the proposed action; (2) ask participants to identify key issues that should be analyzed during the environmental review and compliance process; and (3) provide an opportunity for participants to ask questions regarding project alternatives and the overall environmental review and compliance process. As a result of the public scoping process, two letters were received via U.S. mail. Issues identified during the public scoping process are summarized in the EIS under the Planning Issues section, in Chapter I, Purpose and Need. All comments received during the public scoping process have been duly considered in this EIS. In addition to public scoping, the park and its cooperating agency have also consulted with the Fish and Wildlife Service, Army Corps of Engineers, California State Historic Preservation Office, and Lahontan Regional Water Quality Control Board.

Comments: The draft EIS is now available for public review during a 60-day comment period. Persons wishing to express any new concerns about water management, facilities development, resource protection, or other pertinent aspects of the proposal are encouraged to do so; all responses should be sent to James T. Reynolds, Superintendent, Death Valley National Park, Death Valley, California 92328. Faxed or electronic comments are also acceptable (such transmittals may be sent to the park superintendent's attention at Deva_Superintendent@nps.gov or FAX (760) 786-3283). Written comments will also be accepted at NPS public meetings which are to be held November 15 and 16, 2005 at Pahrump, Nevada, and Death Valley, California. As soon as meeting venues are confirmed, details will be posted on the park's Web site and publicized via local and regional press (and may be obtained by contacting the park at (769) 786-3243).

All written comments must be postmarked (or transmitted) no later than 60 days from the date that the Environmental Protection Agency posts its notice of filing in the Federal Register (immediately upon confirmation, this date will be announced on the park's Web site and via local and regional press media; this information will also be available at the park's telephone contact at (760) 786-3243). Please note that names and addresses of people who comment become part of the public record. If individuals commenting request that their name or/and address be withheld from public disclosure, it will be honored to the extent allowable by law. Such requests must be stated prominently in the beginning of the comments. There also may be circumstances wherein the NPS will withhold from the record a respondent's identity, as allowable by law. As always: The NPS will make available to public inspection all submissions from organizations or businesses and from persons identifying themselves as representatives or officials of organizations and businesses; and, anonymous comments may not be considered.

Printed or compact disk copies of the draft EIS will both be available. Please specify which document format you would like to receive when calling, e-mailing, or faxing Death Valley National Park. The draft EIS also can be viewed on the internet at www.nps.gov/deva/pphtml/documents.html or reviewed at several public libraries.

Decision Process: Following careful consideration of all comments as may be received, a final EIS will be prepared. Not sooner than 30 days following release of the final EIS a Record of Decision would be prepared. At this time its anticipated that project construction may begin during winter, 2007. As a delegated EIS the approving official is the Regional Director, Pacific West Region of the National Park Service; subsequently the official responsible for project implementation would be the Superintendent, Death Valley National Park.

Dated: March 1, 2005.
Jonathan B. Jarvis,
Regional Director, Pacific West Region.

Editorial Note: This document was received at the Office of the Federal Register October 6, 2005.

[FR Doc. 05-20423 Filed 10-11-05; 8:45 am]

BILLING CODE 4312-EF-P